DEPARTMENT OF THE INTERIOR

Bureau of Land Management

[LLCA930000.L58790000.EU0000; CACA 48506]

Notice of Realty Action: Direct Sale of Public Land in Shasta County, CA

AGENCY: Bureau of Land Management, Interior.

ACTION: Notice of Realty Action.

SUMMARY: The Bureau of Land Management (BLM), Redding Field Office, proposes to sell a parcel of public land consisting of 160.03 acres, more or less, in Shasta County, California. The public land would be sold to the County of Shasta for the appraised fair market value of $176,000.

DATES: Written comments regarding the proposed sale must be received by the BLM on or before November 25, 2011.

ADDRESSES: Written comments concerning the proposed sale should be sent to the Field Manager, BLM Redding Field Office, 355 Hemsted Drive, Redding, California 96002.

FOR FURTHER INFORMATION CONTACT: Ilene Emry, Realty Specialist, BLM Redding Field Office, 355 Hemsted Drive, Redding, California 96002, phone (530) 224-2122 or visit the Web site at http://www.blm.gov/ca/st/en/prog/lands.html. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following parcel of public land is being proposed for direct sale to the County of Shasta in accordance with Sections 203 and 209 of the Federal Land Policy and Management Act of 1976 (FLPMA), as amended (43 U.S.C. 1713 and 1719).

Mount Diablo Meridian

T. 30 N., R. 6 W.,

Sec. 4, lots 1 and 2 in the NE¼.

The area described contains 160.03 acres, more or less, in Shasta County.

The public land was first identified as suitable for disposal by exchange in the 1993 BLM Redding Resource Management Plan (RMP). The Redding RMP was amended in 2005 to identify the land as available for sale. The land is not needed for any other Federal purpose, and its disposal would be in the public interest. The purpose of the sale is to dispose of public land which is difficult and uneconomic to manage as part of the public lands because it is isolated from other public lands in the area. The BLM is proposing a direct sale to the County of Shasta that wants to acquire the land as a buffer area to preclude incompatible development near its existing landfill on adjacent non-Federal land. The sale of this land to the County of Shasta would serve an important public objective, therefore a competitive sale is not considered appropriate. The BLM has completed a mineral potential report which concluded the land proposed for sale has known mineral value for gold and aggregate materials. The BLM proposes to reserve all minerals to the U.S.

On October 11, 2011, the above described land will be segregated from all forms of appropriation under the public land laws, including the mining laws, except for the sale provisions of the FLPMA. Until completion of the sale, the BLM will no longer accept land use applications affecting the identified public lands, except applications for the amendment of previously filed right-of-way applications or existing authorizations to increase the term of the grants in accordance with 43 CFR 2802.15 and 2886.15. The segregation terminates upon issuance of a patent, publication in the Federal Register of a termination of the segregation, or on October 11, 2013, unless extended by the BLM State Director in accordance with 43 CFR 2711.1-2(d) prior to the termination date. The land would not be sold until at least December 12, 2011. Any conveyance document issued would contain the following terms, conditions, and reservations:

1. A reservation of a right-of-way (ROW) to the United States for ditches and canals constructed by authority of the United States under the Act of August 30, 1890 (43 U.S.C 945);

2. A reservation of all minerals to the United States, together with the right by itself, its permittees, licensees and lessees to prospect for, mine, and remove the minerals under applicable law and such regulations as the Secretary of the Interior may prescribe.

3. Subject to the following existing ROWs: a ROW for a power-line issued under serial number CACA 24929 and a ROW for a telephone line issued under serial number CACA 26611.

4. A condition that the conveyance be subject to valid existing rights;

5. An appropriate indemnification clause protecting the United States from claims arising out of the patentee's use, occupancy, or operations on the patented lands; and

6. Additional terms and conditions that the authorized officer deems appropriate.

The ROW's listed in 3 above may be replaced by permanent easements prior to conveyance. The parcel may be subject to applications for ROWs received prior to publication of this Notice if processing the application would not adversely affect the marketability or appraised value of the land. Case files containing details on the existing ROWs are available for review at the Redding Field Office.

Detailed information concerning the proposed land sale including the appraisal, planning and environmental documents, and a mineral report are available for review at the BLM Redding Field Office at the address above, or by calling (530) 224-2122.

Public comments regarding the proposed sale may be submitted in writing to the attention of the BLM Redding Field Manager (see ADDRESSES above) on or before November 25, 2011. Comments received in electronic form, such as e-mail or facsimile, will not be considered. Any adverse comments regarding the proposed sale will be reviewed by the BLM State Director or other authorized official of the Department of the Interior, who may sustain, vacate, or modify this realty action in whole or in part. In the absence of timely filed objections, this realty action will become the final determination of the Department of the Interior.

Before including your address, phone number, e-mail address, or other personal identifying information in your comment, be advised that your entire comment—including your personal identifying information—may be made publicly available at any time. While you can ask us in your comment to withhold from public review your personal identifying information, we cannot guarantee that we will be able to do so.

Authority: 43 CFR 2711.1-2(a) and (c).

Tom Pogacnik,
Deputy State Director, Natural Resources.

[FR Doc. 2011-26191 Filed 10-7-11; 8:45 am]

BILLING CODE 4310-40-P